DEPARTMENT OF HEALTH AND HUMAN SERVICES

National Institutes of Health

National Eye Institute; Amended Notice of Meeting

Notice is hereby given of a change in the meeting of the National Eye Institute Special Emphasis Panel, October 21, 2013, 08:00 a.m. to October 23, 2013, 12:00 p.m., National Institutes of Health, 5635 Fishers Lane, Bethesda, MD, 20892 which was published in the Federal Register on September 16, 2013, 78 FR 56905.

Due to the Government Shutdown of October 2013, the meeting has been rescheduled to November 5, 2013, 08:00 a.m. to November 6, 2013, 10:00 p.m. The meeting is closed to the public.

Dated: October 23, 2013.
Melanie Gray,
Program Analyst, Office of Federal Advisory Committee Policy.

[FR Doc. 2013-25478 Filed 10-28-13; 8:45 am]

BILLING CODE 4140-01-P